DEPARTMENT OF COMMERCE

[Docket No.: 150817729-5970-02]

Privacy Act of 1974, Altered System of Records

AGENCY: National Oceanic and Atmospheric Administration, U.S. Department of Commerce.

ACTION: Notice of proposed amendment to Privacy Act System of Records: COMMERCE/NOAA-14, Dr. Nancy Foster Scholarship Program.

SUMMARY: The Department of Commerce publishes this notice to announce the effective date of a Privacy Act System of Records notice entitled Notice of Proposed Amendment to COMMERCE/NOAA-14, Dr. Nancy Foster Scholarship Program.

DATES: The system of records becomes effective on October 28, 2015.

ADDRESSES: For a copy of the system of records please mail requests to: Sarah Brabson, NOAA Office of the Chief Information Officer, Room 9856, 1315 East-West Highway, Silver Spring, MD 20910.

FOR FURTHER INFORMATION CONTACT: Program Administrator, Dr. Nancy Foster Scholarship Program, National Ocean Service, Office of the Assistant Administrator, 1305 East-West Highway, 13th Floor, Silver Spring, MD 20910-3281.

Deputy Director of NOAA Education, Educational Partnership Program and Ernest F. Hollings Undergraduate Scholarship Program, Office of Education, 1315 East-West Highway, 10th Floor, Silver Spring, MD 20910-3281.

Administrative Assistant, Mendy Willis, National Marine Fisheries Service Recruitment, Training, Research Program at the University of Florida, P.O. Box 110240, Gainesville, FL 32611.

SUPPLEMENTARY INFORMATION: On September 17, 2015 (80 FR 55829), the Department of Commerce published a notice in the Federal Register, entitled “Notice of Proposed Amendment to Privacy Act System of Records: COMMERCE/NOAA-14, Dr. Nancy Foster Scholarship Program,” requesting comments on proposed amendments to the system of records. No comments were received in response to the request for comments. By this notice, the Department of Commerce is adopting the proposed changes to the system as final without changes effective October 28, 2015.

Dated: October 22, 2015.
Michael J. Toland,
Department of Commerce, Freedom of Information and Privacy Act Officer.

[FR Doc. 2015-27426 Filed 10-27-15; 8:45 am]

BILLING CODE 3510-22-P